DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project “Systematic Review Data Repository.” In accordance with the Paperwork Reduction Act, AHRQ invites the public to comment on this proposed information collection.

DATES: Comments on this notice must be received on or before 60 days after date of publication.

ADDRESSES: Written comments should be submitted to: Doris Lefkowitz, Reports Clearance Officer, AHRQ, by email at doris.lefkowitz@AHRQ.hhs.gov.

Copies of the proposed collection plans, data collection instruments, and specific details on the estimated burden can be obtained from the AHRQ Reports Clearance Officer.

FOR FURTHER INFORMATION CONTACT: Doris Lefkowitz, AHRQ Reports Clearance Officer, (301) 427-1477, or by emails at doris.lefkowitz@AHRQ.hhs.gov.

SUPPLEMENTARY INFORMATION:

Proposed Project

Systematic Review Data Repository (SRDR)

In 1997, AHRQ launched an initiative to promote evidence-based practice in everyday care through establishment of the Evidence-based Practice Center (EPC) Program. Since then, the EPCs have been reviewing all relevant scientific literature on a wide spectrum of clinical and health services topics to produce various types of evidence reports. A majority of these evidence reports are systematic reviews (SRs), which are used as evidence bases for clinical practice guidelines, research agendas, healthcare coverage, and other health related policies. Performing SRs is costly in time, labor, and money. Moreover, there is an increasing expectation of quicker turnaround in producing SRs to accommodate the fast moving pace of innovations and new scientific discoveries in healthcare. Some SRs overlap or are replicated; independent teams of SR producers often extract data from the same studies, resulting in replication of work. Current methodology makes it difficult to harness and reuse previous work when updating SRs.

In an effort to reduce the economic burden of conducting SRs, the EPC Program undertook development of a collaborative, Web-based repository of systematic review data called the Systematic Review Data Repository (SRDR). This resource serves as both an archive and data extraction tool, shared among organizations and individuals producing SRs worldwide, enabling the creation of a central database of SR data. This database is collaboratively vetted, freely accessible, and integrates seamlessly with reviewers' existing workflows, with the ultimate goal of facilitating the efficient generation and update of evidence reviews, and thus speeding and improving policy-making with regards to health care. Currently, there are two versions of the database: (1) The original version called “SRDR”; and (2) an upgraded version with increased functionality. Further upgrade of the database is planned for the next year (to be called “SRDR 2.0”). The SRDR project encompasses the various iterations of the database.

The SRDR project aims to achieve the following goals:

(1) Create online easy-to-use Web-based tools for conducting systematic reviews to facilitate extraction of data from primary studies;

(2) Develop an open-access searchable archive of key questions addressed in systematic reviews;

(3) Maintain a public repository of primary study data including provision of technical support for repository users; and

(4) Develop a process for making summary data from systematic reviews digitally shareable to end-users.

This study is being conducted by AHRQ through its contractor, Brown University, pursuant to AHRQ's statutory authority to conduct and support research on health care and on systems for the delivery of such care, including activities with respect to the quality, effectiveness, efficiency, appropriateness and value of healthcare services, including database development. 42 U.S.C 299a(a)(1) and (8).

Method of Collection

To achieve the goals of this project the following data collections will be implemented:

(1) Collect registration data and information on SRs from SR producers who will populate the SRDR system.

SRDR uses a three-tiered categorization of users and collection of registration data that depends on the type of user: (1) “Contributors” are SR producers who use SRDR as a tool to support production of the SR and share scientific data from their SRs. Registration data will be collected from these users; (2) “Commentators” provide comments (i.e. opinions) on publicly available scientific data in SRDR. Registration data will be collected from these users; (3) “General public” users only view scientific data publicly available in SRDR. No data will be collected from these type of users.

All Contributors and Commentators will undergo a simple self-registration process by providing a username, password, email address, and institution. Collection of registration data from Contributors and Commentators is required due to the use of SRDR both as a database and as a tool for assisting in the production of a SR, including providing comments in the various sections of a particular project on SRDR. In addition, provision of an email address and institution information allows the administrators of SRDR to confirm that requests are being made by actual people and not potentially malicious software code such as bots and other cybersecurity threats.

Estimated Annual Respondent Burden

Exhibit 1 shows the estimated annualized burden hours for the respondents' time to participate in the SRDR. In 2017, 176 users registered as Commentators and 206 users registered as Contributors. Registration will take approximately 2 minutes per user. We thus calculate the total burden hours required for registration for all users annually is 12.73 hours.

Exhibit 1—Estimated Annualized Burden Hours
Form name | Number of respondents | Number of responses per respondent | Hours per response | Total burden hours
Registration of users as Commentators or Contributors | 382 | 1 | 2/60 | 12.73
Total | 382 |  |  | 12.73

Exhibit 2 shows the estimated cost burden associated with the respondents' time to participate in the SRDR. The total cost burden to respondents is estimated at an average of $501.82 annually.

Exhibit 2—Estimated Annualized Cost Burden
Form name | Number of respondents | Total burden hours | Average hourly wage rate * | Total cost burden
Registration of users as Commentators or Contributors | 382 | 12.73 | ᵃ $39.42 | $501.82
Total | 382 | 12.73 |  | 501.82
* National Compensation Survey: Occupational wages in the United States May 2018, “U.S. Department of Labor, Bureau of Labor Statistics.” Available at: https://www.bls.gov/oes/current/oes290000.htm.
ᵃ Based on the mean wages for Healthcare Practitioners and Technical Occupations, 29-0000.

Request for Comments

In accordance with the Paperwork Reduction Act, comments on AHRQ's information collection are requested with regard to any of the following: (a) Whether the proposed collection of information is necessary for the proper performance of AHRQ's health care research and health care information dissemination functions, including whether the information will have practical utility; (b) the accuracy of AHRQ's estimate of burden (including hours and costs) of the proposed collection(s) of information; (c) ways to enhance the quality, utility and clarity of the information to be collected; and (d) ways to minimize the burden of the collection of information upon the respondents, including the use of automated collection techniques or other forms of information technology.

Comments submitted in response to this notice will be summarized and included in AHRQ's subsequent request for OMB approval of the proposed information collection. All comments will become a matter of public record.

Virginia L. Mackay-Smith,
Associate Director.

[FR Doc. 2019-12606 Filed 6-13-19; 8:45 am]

BILLING CODE 4160-90-P